DEPARTMENT OF COMMERCE

National Oceanic and Atmospheric Administration

[XRIN: 0648-XA12]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Standing Scientific and Statistical Committee (SSC) and the Special Reef Fish SSC.

DATES: The SSC and Special Reef Fish SSC meeting will convene at 1 p.m. on Monday June 4 and conclude no later than 12 noon on Tuesday, June 5, 2007.

ADDRESSES: The meeting will be held at the W New Orleans, 333 Poydras St., New Orleans, LA 70130; telephone: (504) 525-9444.

Council address: Gulf of Mexico Fishery Management Council, 2203 North Lois Avenue, Suite 1100, Tampa, FL 33607.

FOR FURTHER INFORMATION CONTACT: Stu Kennedy, Fishery Biologist; telephone: (813) 348-1630.

SUPPLEMENTARY INFORMATION: The SSC will address these issues:

1. Elect a new chair and vice-chair.

2. Review and provide guidance on the provisions of Reef Fish Amendment 27 and Shrimp Amendment 14 which set manage measures to rebuild the red snapper resource in the Gulf of Mexico.

3. Review the SEDAR re-evaluation of the assessment of gag in the Gulf of Mexico. The SSC will determine if the Review Panel reports are based on the best available information and reasonable. The SSC may provide guidance to the Council about the results of the assessment and research recommendations made by the SEDAR panels.

4. Review the analyses used to build the alternatives for Reef Fish Amendment 30A which includes greater amberjack and gray triggerfish management measures to determine if they are scientifically sound.

5. Receive a report on the development of guidelines for implementing Annual Catch Limits as specified in the re-authorization of the MSA; and

6. Review terms of reference for SEDAR 16 stock assessment of King Mackerel.

Although other non-emergency issues not on the agenda may come before the SSC for discussion, in accordance with the Magnuson-Stevens Fishery Conservation and Management Act (Magnuson-Stevens Act), those issues may not be the subject of formal action during these meetings. Actions of the SSC will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Tina Trezza at the Council (see ADDRESSES) at least 5 working days prior to the meeting.

Dated: May 7, 2007.
Tracey L. Thompson,
Acting Director, Office of Sustainable Fisheries, National Marine Fisheries Service.

[FR Doc. E7-9050 Filed 5-9-07; 8:45 am]

BILLING CODE 3510-22-S